DEPARTMENT OF THE INTERIOR

National Park Service

[NPS-WASO-NAGPRA-NPS0028040; PPWOCRADN0-PCU00RP14.R50000]

Notice of Inventory Completion: Department of Anthropology, Southern Methodist University, Dallas, TX

AGENCY: National Park Service, Interior.

ACTION: Notice.

SUMMARY: The Department of Anthropology, Southern Methodist University has completed an inventory of human remains, in consultation with the appropriate Indian Tribes or Native Hawaiian organizations, and has determined that there is no cultural affiliation between the human remains and any present-day Indian Tribes or Native Hawaiian organizations. Representatives of any Indian Tribe or Native Hawaiian organization not identified in this notice that wish to request transfer of control of these human remains should submit a written request to the Department of Anthropology, Southern Methodist University. If no additional requestors come forward, transfer of control of the human remains to the Indian Tribes or Native Hawaiian organizations stated in this notice may proceed.

DATES: Representatives of any Indian Tribe or Native Hawaiian organization not identified in this notice that wish to request transfer of control of these human remains should submit a written request with information in support of the request to the Department of Anthropology, Southern Methodist University at the address in this notice by July 15, 2019.

ADDRESSES: B. Sunday Eiselt, Department of Anthropology, Southern Methodist University, 3225 Daniel Avenue, Heroy Hall #450, Dallas, TX 75205, telephone (214) 768-2915, email seiselt@smu.edu.

SUPPLEMENTARY INFORMATION: Notice is here given in accordance with the Native American Graves Protection and Repatriation Act (NAGPRA), 25 U.S.C. 3003, of the completion of an inventory of human remains under the control of the Department of Anthropology, Southern Methodist University, Dallas, TX. The human remains were removed from site X41CX10, known as the Chimney Shelter Site, in Crockett County, TX.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the Department of Anthropology, Southern Methodist University professional staff in consultation with representatives of the Caddo Nation of Oklahoma and the Wichita and Affiliated Tribes (Wichita, Keechi, Waco & Tawakonie), Oklahoma (hereafter referred to as “The Consulted Tribes”).

History and Description of the Remains

On November 18, 1966, human remains representing, at minimum, one individual were removed from the Chimney Shelter Site (X41CX10) in Crockett County, TX. The Chimney Shelter Site was one of several rockshelter sites excavated during the Crockett County Excavations project, a highway salvage project conducted by the State of Texas preceding the construction of Interstate Highway 10. The partial remains of one adult individual were found in the southern half of the rockshelter under a mound of limestone rocks. Small patches of degraded plant material found under the human remains were either matting or, (more likely, based on excavation notes) grass. No known individuals were identified. No associated funerary objects are present (no other artifacts were recovered from the rockshelter).

Determinations Made by the Department of Anthropology, Southern Methodist University

Officials of the Department of Anthropology, Southern Methodist University have determined that:

• Pursuant to 25 U.S.C. 3001(9), the human remains described in this notice are Native American based on burial context and the surrounding cultural sites.

• Pursuant to 25 U.S.C. 3001(9), the human remains described in this notice represent the physical remains of one individual of Native American ancestry.

• Pursuant to 25 U.S.C. 3001(2), a relationship of shared group identity cannot be reasonably traced between the Native American human remains and any present-day Indian Tribe.

• According to final judgments of the Indian Claims Commission or the Court of Federal Claims, the land from which the Native American human remains were removed is the aboriginal land of the Apache Tribe of Oklahoma; Comanche Nation, Oklahoma; and the Kiowa Indian Tribe of Oklahoma (hereafter, “The Tribes”).

• Pursuant to 43 CFR 10.11(c)(1), the disposition of the human remains may be to The Tribes.

Additional Requestors and Disposition

Representatives of any Indian Tribe or Native Hawaiian organization not identified in this notice that wish to request transfer of control of these human remains should submit a written request with information in support of the request to B. Sunday Eiselt, Department of Anthropology, Southern Methodist University, 3225 Daniel Avenue, Heroy Hall #450, Dallas, TX 75205, telephone (214) 768-2915, email seiselt@smu.edu, by July 15, 2019. After that date, if no additional requestors have come forward, transfer of control of the human remains to The Tribes may proceed.

The Department of Anthropology, Southern Methodist University is responsible for notifying The Consulted Tribes and The Tribes that this notice has been published.

Dated: May 28, 2019.
Melanie O'Brien,
Manager, National NAGPRA Program.

[FR Doc. 2019-12462 Filed 6-12-19; 8:45 am]

BILLING CODE 4312-52-P